SMALL BUSINESS ADMINISTRATION

[Disaster Declaration # 11634 and # 11635]

Vermont Disaster # VT-00012

AGENCY: U.S. Small Business Administration.

ACTION: Notice.

SUMMARY: This is a Notice of the Presidential declaration of a major disaster for Public Assistance Only for the State of Vermont (FEMA—1816—DR), dated 01/14/2009.

Incident: Severe Winter Storm.

Incident Period: 12/11/2008 through 12/18/2008.

DATES: Effective Date: 01/14/2009.

Physical Loan Application Deadline Date: 03/16/2009

Economic Injury (EIDL) Loan Application Deadline Date: 10/14/2009

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 01/14/2009, Private Non-Profit organizations that provide essential services of governmental nature may file disaster loan applications at the address listed above or other locally announced locations.

The following areas have been determined to be adversely affected by the disaster:

Primary Counties:

Bennington, Windham.

The Interest Rates are:

| Percent
Other (Including Non-Profit Organizations) with Credit Available Elsewhere | 4.500
Businesses and Non-Profit Organizations without Credit Available Elsewhere | 4.000

The number assigned to this disaster for physical damage is 11634B and for economic injury is 11635B.

(Catalog of Federal Domestic Assistance Numbers 59002 and 59008)

Dated: January 16, 2009.
Herbert L. Mitchell,
Associate Administrator for Disaster Assistance.

[FR Doc. E9-1708 Filed 1-26-09; 8:45 am]

BILLING CODE 8025-01-P